DEPARTMENT OF HEALTH AND HUMAN SERVICES

Centers for Disease Control and Prevention

[30Day-14-13AFV]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

The National Ambulatory Medical Care Survey (NAMCS) National Electronic Health Record Survey (NEHRS)—New—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on “utilization of health care” in the United States. NAMCS NEHRS has been conducted annually since 2008 as a mail survey supplement under NAMCS. Questions in NAMCS NEHRS have been asked in NAMCS starting in 2001. NCHS is seeking OMB approval to make NAMCS NEHRS as an independent survey for the next three years.

The purpose of NEHRS is to measure progress toward goals for electronic health records (EHRs) adoption. NAMCS NEHRS target universe consists of all non-Federal office-based physicians (excluding those in the specialties of anesthesiology, radiology, and pathology) who are engaged in direct patient care.

NAMCS NEHRS was initiated as a mail survey supplement under NAMCS. NAMCS NEHRS is the principal source of data on national and state-level EHR adoption in the United States. In 2008 and 2009, the sample size was 2,000 physicians annually. Starting in 2010, the annual sample size was increased five-fold, from 2,000 physicians to 10,302 physicians. The increased sample size allows for more reliable national estimates as well as state-level estimates on EHR adoption without having to be combined with NAMCS. For these reasons, it is our intent to have NEHRS stand as an independent survey, not as a supplement under NAMCS.

NAMCS NEHRS collects information on characteristics of physician practices, the capabilities of EHRs in those practices, and intent to apply for meaningful use incentive payments. These data, together with trend data, may be used to monitor the adoption of EHR as well as accessing factors associated with EHR adoption. Additionally, half the sample will receive additional content related to effects that EHRs have on clinical workflow, efficiencies, and may address issues of access, quality, and costs of associated with the delivery of health care. Subsequent years of the entire 2014 NEHRS may receive longitudinal follow-up to evaluate the effect of EHR on the delivery of health care over time.

Users of NAMCS NEHRS data include, but are not limited to, Congressional offices, Federal agencies, state and local governments, schools of public health, colleges and universities, private industry, nonprofit foundations, professional associations, clinicians, researchers, administrators, and health planners.

NAMCS NEHRS will survey 10,302 physicians a year, for eligibility. It is expected that all physicians will participate in an interview annually. In 2014, one-half of the physicians will receive the regular NAMCS NEHRS and one-half of the physicians will receive an expanded NAMCS NEHRS. All the 2014 eligible physicians (10,302) will be asked to take the follow-up NAMCS NEHRS in 2015 and 2016.

There are no costs to the respondents other than their time. The total estimated annual burden hours are 7,155.

Estimated Annualized Burden Hours
Type of respondent | Form name | Number of respondents | Responses per respondent | Average burden per response (in hours)
Office-based physicians | Regular NAMCS NEHRS | 8,585 | 1 | 20/60
| Expanded NAMCS NEHRS | 1,717 | 1 | 30/60
| NAMCS NEHRS expansion (Follow-up) | 6,868 | 1 | 30/60

Leroy A. Richardson,
Chief, Information Collection Review Office, Office of Scientific Integrity, Office of the Associate Director for Science, Office of the Director, Center for Disease Control and Prevention.

[FR Doc. 2014-02667 Filed 2-6-14; 8:45 am]

BILLING CODE 4163-18-P